DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

M. Nguyen, M.D., University of California, Los Angeles: Based on a University of California, Los Angeles (UCLA) report and Respondent's own admission, the U.S. Public Health Service (PHS) found that Dr. M. Nguyen, former Associate Professor at UCLA, engaged in scientific misconduct in research supported by National Cancer Institute (NCI), National Institutes of Health (NIH), grant 1 R01 CA69433, National Center for Complementary and Alternative Medicine (NCCAM), NIH, grant 1 P50 AT00I51-01, and National Institute of Diabetes and Digestive and Kidney Diseases (NIDDK), NIH, grant T32 DK03688.

Specifically, PHS found that Respondent engaged in scientific misconduct by:

1. Dr. Nguyen's laboratory conducted a single experiment on the effect of Livistona extract on the growth of 10⁶ mouse fibrosarcoma (FSA) cells injected into C3H mice. The drug was administered in the drinking water of the treated mice and tumor sizes were measured twice weekly with calipers. Dr. Nguyen falsified and fabricated the results of this experiment in Figure 3 of Oncology Reports 8:1355-1357, 2001:

A. The data reported for the control group were from an experiment in nude mice implanted with human breast tumor implants, rather than with mouse fibrosarcoma cell implants, as Dr. Nguyen reported in the paper. The control data for FSA implanted C3H mice could not be located in the laboratory records.

2. Dr. Nguyen's laboratory conducted a single experiment on the effect of Livistona extract on the growth of 10⁸ MDA-MD-231 cells injected into nude mice. The drug was administered in the drinking water of the treated mice and tumor sizes measured twice weekly with calipers. Dr. Nguyen falsified and fabricated the results of this experiment in Figure 9 of NIH grant application P50 AT00151-01, dated May 19, 1999, by:

A. Falsely stating in the associated text that there were ten mice per group and that the experiments were repeated once, while in fact, there were only five mice per group with no repetition of this experiment

B. Omitting data on the control curve for two of the measurement times (at 2 and 3.5 weeks) and falsely reporting the times at which three other measurements were taken.

3. Dr. Nguyen's laboratory conducted a single experiment (1998-99) testing the anti-angiogenic effects of Livistona chinensis extract on human umbilical vein endothelial cells (HUVEC). HUVEC cells were counted from duplicate wells when exposed to extract and controls were counted from single wells:

A. Figure 8 of NIH grant application P50 AT00I51-01, dated 5/19/99, plots the data as a bar graph. However, the same data were reported in Figure 1 of Oncology Reports 8:1355-1357, 2001, by falsely expressing them as the rate of growth obtained by measuring the uptake of radioactive thymidine into cellular DNA and plotting the data as normalized to control values. UCLA concluded that Figure 1 was falsified by claiming the data were obtained by a state-of-the-art technique not actually employed by the Respondent to obtain the data for that figure (Admission). This falsification did not bear upon the findings of the paper.

4. Dr. Nguyen's laboratory tested whether the levels of bFGF (basic fibroblast growth factor) and VEGF (vascular endothelial growth factor) in nipple fluid aspirates were significantly elevated in breast cancer patients in comparison to values from normal lactating and non-lactating breasts. Dr. Nguyen falsified the number of subjects who were lactating in The Lancet 356:567-569, 2000, by claiming that bFGF data were obtained from four separate subjects while in fact the data were from both breasts of two subjects.

Dr. Nyugen has entered into a Voluntary Settlement Agreement with ORI. As part of that Agreement, Dr. Nyugen admits to UCLA's findings of fact but denies ORI's findings that the actions rise to the level of scientific misconduct. The settlement is not an admission of liability on the part of the Respondent. Dr. Nyugen voluntarily agreed, for a period of three (3) years, beginning on December 29, 2008:

(1) Not to serve in any advisory capacity to PHS, including but not limited to service on any PHS advisory committee, board, and/or peer review committee, or as a consultant; and

(2) That although Respondent is not currently engaged in PHS-supported research, any institution that submits an application for PHS support for a research project on which the Respondent's participation is proposed or that uses the Respondent in any capacity on PHS supported research, or that submits a report of PHS-funded research in which the Respondent is involved, must concurrently submit a plan for supervision of the Respondent(s duties to the funding agency for approval. The supervisory plan must be designed to ensure the scientific integrity of the Respondent(s research contribution. Respondent agreed to ensure that a copy of the supervisory plan also is submitted to ORI by the institution for ORI approval. Respondent agreed to not participate in any PHS-supported research until such a supervisory plan is submitted to ORI.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E9-1933 Filed 1-28-09; 8:45 am]

BILLING CODE 4150-31-P